ENVIRONMENTAL PROTECTION AGENCY

[EPA-HQ-RCRA-2010-0832, FRL-9323-6]

Agency Information Collection Activities; Submission to OMB for Review and Approval; Comment Request; EPA's WasteWise Program (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before July 25, 2011.

ADDRESSES: Submit your comments, referencing Docket ID No. EPA-HQ-RCRA-2010-0832, to (1) EPA, either online using http://www.regulations.gov (our preferred method), or by email to rcra-docket@epa.gov, or by mail to: EPA Docket Center, Environmental Protection Agency, Mail Code 28221T, 1200 Pennsylvania Avenue, NW., Washington, DC 20460; and (2) OMB, by mail to: Office of Information and Regulatory Affairs, Office of Management and Budget (OMB), Attention: Desk Officer for EPA, 725 17th Street, NW., Washington, DC 20503.

FOR FURTHER INFORMATION CONTACT: Marian Robinson, Office of Resource & Conservation Recovery, 5306P, Environmental Protection Agency, 1200 Pennsylvania Ave., NW., Washington, DC 20460; telephone number: 703-308-8666; fax number: 703-308-8686; email address: robinson.marian@epa.gov.

SUPPLEMENTARY INFORMATION: EPA has submitted the following ICR to OMB for review and approval according to the procedures prescribed in 5 CFR 1320.12. On February 23, 2011 (76 FR 10022), EPA sought comments on this ICR pursuant to 5 CFR 1320.8(d). EPA received no comments. Any additional comments on this ICR should be submitted to EPA and OMB within 30 days of this notice.

EPA has established a public docket for this ICR under Docket ID No EPA-HQ-RCRA-2010-0832, which is available for online viewing at http://www.regulations.gov, or in person viewing at the Resource Conservation and Recovery Act (RCRA) Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is (202) 566-1744, and the telephone number for the RCRA Docket is (202) 566-0270.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: EPA's WasteWise Program (Renewal).

ICR Numbers: EPA ICR No. 1698.09, OMB Control No. 2050-0139.

ICR Status: This ICR is scheduled to expire on June 30, 2011. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA's voluntary WasteWise program encourages businesses and other organizations to reduce solid waste through waste prevention, recycling, and the purchase or manufacture of recycled-content products. WasteWise participants include partners who commit to implementing waste reduction activities tailored to their specific needs, and endorsers who promote WasteWise and recruit organizations to join the program.

WasteWise requires partners to register for membership in the program. Previously, WasteWise used paper forms that we estimate took 40 hours for partners and 10 hours for endorsers to complete. In 2009, WasteWise implemented a web-based data management and reporting system for the collection and reporting of data. Under the new web-based system, partners and endorsers enter their data on-line.

The Partner Registration Form identifies an organization and its facilities registering to participate in WasteWise, and requires the signature of a senior official that can commit the organization to the program. (This form is completed on-line and is submitted electronically.) Within two months of registering, each partner is required to submit baseline data on existing waste reduction programs to EPA via an Annual Assessment Form. (This is an on-line form that is completed and submitted electronically.) Partners are also encouraged to set waste reduction goals for the upcoming year. On an annual basis, partners are required to report, via the Annual Assessment Form, on the accomplishments of their waste prevention and recycling activities. Partners report the amount of waste prevented and recycled, amount of recycled-content materials purchased, and (where appropriate) the amount of recovered materials used in the manufacture of new products. They also provide WasteWise with information on total waste prevention revenue, total recycling revenue, total avoided purchasing costs due to waste prevention, and total avoided disposal costs due to recycling and waste prevention. Additionally, they are encouraged to submit new waste reduction goals.

Endorsers, which are typically trade associations or state/local governments, submit an Endorser Registration Form upon registering for the program. (This is an on-line form that is completed and is submitted electronically.) The Endorser Registration Form identifies the organization, the principal contact, and the activities to which the Endorser commits. EPA plans to expand the information requested of Endorsers by requiring them to submit a summary of their endorser activities annually. All registration and reporting information will be submitted electronically using the existing on-line, web-based data management and reporting system.

EPA's WasteWise program uses the submitted information to (1) Identify and recognize outstanding waste reduction achievements by individual organizations, (2) compile results that indicate overall accomplishments of WasteWise members, (3) identify cost-effective waste reduction strategies to share with other organizations, (4) identify topics on which to develop technical assistance materials and other information, and (5) further encourage the growth of industry-specific sustainable practices.

Burden Statement: The respondent burden for this collection is estimated to average 1 hour per response for the Partner Registration Form, 34.5 hours per response for the Partner Annual Assessment Form, 3 hours per response for the Endorser Registration Form, and 5 hours per response for the Endorser Annual Assessment Form. This results in an estimated annual partner respondent burden of 51 hours for new partners, 48 hours for established partners, 7 hours for new endorsers, and 3 hours for established endorsers.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Businesses, not-for-profit institutions, and State, Local, or Tribal governments.

Estimated Number of Respondents: 1,222.

Frequency of Response: On occasion.

Estimated Total Annual Hour Burden: 25,844.

Estimated Total Annual Cost: $2,138,570, includes $2,138,570 annualized labor costs and $0 annualized capital or O&M costs.

Changes in the Estimates: There is a decrease of 44,506 hours in the total estimated burden currently identified in the OMB Inventory of Approved ICR Burdens. This decrease is due to an update in the number of partners to reflect who are the active partners, as well as an online reporting system that has greatly reduced burden for respondents and the agency.

Dated: June 16, 2011.
John Moses,
Director, Collection Strategies Division.

[FR Doc. 2011-15760 Filed 6-22-11; 8:45 am]

BILLING CODE 6560-50-P